DEPARTMENT OF THE INTERIOR

Bureau of Ocean Energy Management

30 CFR Part 585

[Docket ID: BOEM-2010-0045]

RIN 1010-AD79

Renewable Energy Alternate Uses of Existing Facilities on the Outer Continental Shelf—Acquire a Lease Non-competitively; Correction

AGENCY: Bureau of Ocean Energy Management, (BOEM), Interior.

ACTION: Correcting amendments.

SUMMARY: This document corrects amendments contained in a direct final rule published in the Federal Register on October 18, 2011, and involves only that portion of the rule related to acquiring a lease non-competitively for offshore renewable energy projects.

DATES: Effective Date: This correction is effective on January 9, 2012.

FOR FURTHER INFORMATION CONTACT: Peter Meffert, Regulatory Affairs, BOEM, at (703) 787-1610, fax (703) 787-1555, or email peter.meffert@boem.gov or Timothy Redding, Renewable Energy, BOEM, at (703) 787-1219 or email Timothy.Redding@boem.gov.

SUPPLEMENTARY INFORMATION: BOEM is correcting portions of its previously published direct final rule that misstated existing regulatory text having to do with acquiring a lease non-competitively for offshore renewable energy projects. The corrections involve §§ 585.231 and 585.232.

List of Subjects in 30 CFR Part 585

Continental shelf, Environmental protection, Incorporation by reference, Public lands.

Dated: December 21, 2011.
Marcilynn A. Burke,
Acting Assistant Secretary—Land and Minerals Management.

Accordingly, the Bureau of Ocean Energy Management is making the correcting amendments to 30 CFR part 585 as follows:

PART 585—RENEWABLE ENERGY AND ALTERNATE USES OF EXISTING FACILITIES ON THE OUTER CONTINENTAL SHELF

1. The authority citation for part 585 continues to read as follows:

Authority: 43 U.S.C. 1331 et seq., 43 U.S.C. 1337.

2. Amend § 585.231 by revising paragraph (d)(1) to read as follows:

§ 585.231 How will BOEM process my unsolicited request to acquire a lease non-competitively?

* * * * *

(d) * * *

(1) A notice that BOEM has made a determination that there is no competitive interest will be published in the Federal Register; and

* * * * *

3. Amend § 585.232 by revising paragraph (c) to read as follows:

§ 585.232 May I acquire a lease noncompetitively after responding to a Request for Interest or Call for Information and Nominations?

* * * * *

(c) After receiving the acquisition fee, BOEM will follow the process outlined in § 585.231(d) through (i).

[FR Doc. 2012-50 Filed 1-6-12; 8:45 am]

BILLING CODE 4310-MR-P